DEPARTMENT OF COMMERCE

National Oceanic and Atmospheric Administration

50 CFR Part 648

RIN 0648-BH16

Magnuson-Stevens Fishery Conservation and Management Act Provisions; Fisheries of the Northeastern United States; Amendment 20 to the Atlantic Mackerel, Squid, and Butterfish Fishery Management Plan

AGENCY: National Marine Fisheries Service (NMFS), National Oceanic and Atmospheric Administration (NOAA), Commerce.

ACTION: Announcement of availability of fishery management plan amendment; request for comments.

SUMMARY: NMFS announces that the Mid-Atlantic Fishery Management Council has submitted Amendment 20 to the Atlantic Mackerel, Squid, and Butterfish Fishery Management Plan to the Secretary of Commerce for review and approval. We are requesting comments from the public on this amendment. This action is necessary to prevent the reactivation of latent effort in the longfin squid fishery, preserve economic opportunities for more recently active participants in the longfin squid fishery, avoid overharvest during Trimester II (May-August) of the longfin squid fishery, and reduce potential negative impacts on inshore spawning longfin squid aggregations and egg mops. The Mid-Atlantic Fishery Management Council intends that these proposed measures would promote the sustainable utilization and conservation of the squid and butterfish resources, while promoting the sustained participation of fishing communities and minimizing adverse economic impacts on such communities.

DATES: Comments must be received on or before September 25, 2018.

ADDRESSES: You may submit comments on this document, identified by NOAA-NMFS-2017-0110, by any of the following methods:

• Electronic Submission: Submit all electronic public comments via the Federal e-Rulemaking Portal. Go to www.regulations.gov/#!docketDetail;D=NOAA-NMFS-2017-0110, click the “Comment Now!” icon, complete the required fields, and enter or attach your comments.

• Mail: Michael Pentony, Regional Administrator, NMFS, Greater Atlantic Regional Fisheries Office, 55 Great Republic Drive, Gloucester, MA 01930. Mark the outside of the envelope, “Comments on Amendment 20.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The Council prepared an environmental assessment (EA) for Amendment 20 to the Atlantic Mackerel, Squid, and Butterfish Fishery Management Plan (FMP) that describes the proposed action and other alternatives considered and provides a thorough analysis of the impacts of the proposed measures and alternatives considered. Copies of Amendment 20, including the EA, the Regulatory Impact Review, and the Regulatory Flexibility Act analysis, are available from: Christopher Moore, Executive Director, Mid-Atlantic Fishery Management Council, Suite 201, 800 State Street, Dover, DE 19901. The EA and associated analysis is accessible via the internet at: http://www.mafmc.org/s/Squid-Amendment-Draft-EA.pdf.

FOR FURTHER INFORMATION CONTACT: Douglas Christel, Fishery Policy Analyst, (978) 281-9141.

SUPPLEMENTARY INFORMATION:

Background

In 1995, the Mid-Atlantic Fishery Management Council (Council) adopted a limited access permit system for longfin squid and butterfish as part of Amendment 5 to the Atlantic Mackerel, Squid, and Butterfish FMP (April 2, 1996; 61 FR 14465). Under Amendment 5, NMFS issued longfin squid/butterfish moratorium permits to vessels that landed a minimum amount of either species during a specified qualification period. Since then, the number of vessels landing longfin squid has decreased, with a relatively small portion of vessels issued longfin squid/butterfish moratorium permits landing the majority of longfin squid in recent years. The Council is concerned that unused longfin squid/butterfish moratorium permits could be activated, which could lead to excessive fishing effort and bycatch of both longfin squid and non-target species. This could cause negative biological impacts to these species. In addition, this increased effort could increase the race to fish and reduce access to available longfin squid quota by vessels with a continuous history of landings in recent years. Therefore, the Council developed Amendment 20 to consider the appropriate number of vessels in the directed and incidental longfin squid fishery and design appropriate measures to prevent unanticipated increases in fishing effort. The proposed measures described below could help prevent a race to fish, frequent and disruptive fishery closures, and reduced fishing opportunities for vessels that are more recently dependent upon longfin squid.

Longfin squid spawning occurs year round, but is most frequently observed inshore during the late spring through early fall. Spawning aggregations and associated egg masses (mops) that are attached to the bottom are vulnerable to bottom fishing activities during the summer months when longfin squid are easily accessible to the fishery in large concentrations. In 2007, the Council implemented reduced quotas during summer months (May through August, or Trimester II) as part of the trimester quota system (January 30, 2007; 71 FR 4211). The Council developed the trimester quota system to improve the monitoring and management of the longfin squid fishery and prevent allowable quotas from being exceeded. Once a trimester quota has been caught, possession limits are reduced to incidental levels for all longfin squid permits. The FMP currently includes a possession limit of 2,500 lb (1,134 kg) per trip for incidental permits and when the directed fishery has closed. However, this incidental limit has allowed vessels to continue to land large amounts of longfin squid even after the directed fishery is closed, which contributed to the Trimester II quota being exceeded by large amounts in several years. The Council is concerned that excessive fishing effort inshore during Trimester II could negatively impact the stock, interrupting spawning activity, increasing the mortality of squid eggs, and reducing future recruitment. Measures developed by the Council under this action are intended to reevaluate the management of longfin squid during Trimester II primarily to reduce impacts to spawning squid and egg mops.

The purpose of Amendment 20 is to optimize management measures in the squid fisheries by reducing latent (unused) effort in the longfin squid fishery and adjusting the management of the longfin squid fishery during Trimester II (May through August) to avoid overharvesting the longfin squid resource. Although the Council considered reducing the number of Illex squid moratorium permits in the fishery, the Council decided a reduction in the number of Illex moratorium permits was not appropriate at this time given low Illex landings and limited vessel participation in the fishery in recent years. Measures proposed under this action would promote the sustainable utilization and conservation of the longfin squid and butterfish resources, while promoting the sustained participation of fishing communities and minimizing adverse economic impacts on such communities. If approved, Amendment 20 would:

1. Separate butterfish from the current longfin/butterfish moratorium permit to create a new butterfish moratorium permit and a separate longfin squid moratorium permit;

2. Reissue longfin squid moratorium permits to vessels that landed at least 10,000 lb (4,536 kg) of longfin squid in any year from 1997-2013;

3. Create a new longfin squid moratorium permit with a 5,000 lb (2,268 kg) possession limit for vessels that have not landed at least 10,000 lb (4,536 kg) of longfin squid in any year from 1997-2013;

4. Create a new longfin squid incidental moratorium permit to enable vessels to continue to land 2,500 lb (1,134 kg) of longfin squid per trip;

5. Allow individual entities issued multiple longfin squid moratorium permits a one-time opportunity to swap such permits among their vessels; and

6. Reduce the longfin squid possession limit from 2,500 lb (1,134 kg) to 250 lb (113 kg) for squid/butterfish incidental catch permits and for all longfin squid permits after the Trimester II longfin squid quota is landed.

NMFS seeks public comments on Amendment 20 and its incorporated documents through the end of the comment period specified in the DATES section of this notice of availability (NOA). Concurrent with NMFS's review of the amendment under the Magnuson-Stevens Act procedures, NMFS may publish a rule proposing to implement measures outlined in this amendment in the Federal Register for public comment. All comments received by the end of the comment period on the NOA, whether specifically directed to the NOA or the proposed rule, will be considered in the approval/disapproval decision. NMFS will not consider comments received after the end of the comment period for the NOA in the approval/disapproval decision of this action.

Authority: 16 U.S.C. 1801 et seq.

Dated: July 23, 2018.
Jennifer M. Wallace,
Acting Director, Office of Sustainable Fisheries, National Marine Fisheries Service.

[FR Doc. 2018-15970 Filed 7-26-18; 8:45 am]

BILLING CODE 3510-22-P